DEPARTMENT OF ENERGY

Federal Energy Regulatory Commission

[Docket No. RP00-462-001 and -002 and RP01-37-003 and -004]

Equitrans, L.P.; Errata Notice

October 16, 2002.

In the Commission's Order on Rehearing and Compliance with Order Nos. 637, 587-G and 587-L issued October 10, 2002, in the above-proceeding, on page 5, paragraph 14, of the order, change “October 1, 2002” to “November 1, 2002”. The sentence should read as follows:

“With the exception of the items discussed below, the Commission accepts Equitrans's proposed compliance tariff sheets, effective November 1, 2002”.

Linwood A. Watson, Jr.,
Deputy Secretary.

[FR Doc. 02-26946 Filed 10-22-02; 8:45 am]

BILLING CODE 6717-01-P